DEPARTMENT OF COMMERCE

National Oceanic and Atmospheric Administration

RIN 0648-XE872

North Pacific Fishery Management Council; Public Meetings

AGENCY: National Marine Fisheries Service (NMFS), National Oceanic and Atmospheric Administration (NOAA), Commerce.

ACTION: Notice of public meetings of the North Pacific Fishery Management Council and its advisory committees.

SUMMARY: The North Pacific Fishery Management Council (Council) and its advisory committees will meet October 3, 2016 through October 11, 2016, in Anchorage, AK.

DATES: The meetings will be held October 3, 2016 through October 11, 2016. See SUPPLEMENTARY INFORMATION for specific dates and times.

ADDRESSES: The meeting will be held at the Anchorage Hilton Hotel, 500 W. 3rd Ave., Anchorage, AK 99501.

Council address: North Pacific Fishery Management Council, 605 W. 4th Ave., Suite 306, Anchorage, AK 99501-2252; telephone: (907) 271-2809.

FOR FURTHER INFORMATION CONTACT: David Witherell, Council staff; telephone: (907) 271-2809.

SUPPLEMENTARY INFORMATION: The Council will begin its plenary session at 8 a.m. in the Aleutian Room on Wednesday, October 5 continuing through Tuesday, October 11, 2016. The Scientific and Statistical Committee (SSC) will begin at 8 a.m. in the King Salmon/Iliamna Room on Monday, October 3 and continue through Thursday, October 6, 2016. The Council's Advisory Panel (AP) will begin at 8 a.m. in the Dillingham/Katmai Room on Tuesday, October 4 and continue through Saturday, October 8, 2016. The Ecosystem Committee will meet on Tuesday, October 4, 2016, from 8 a.m. to 5 p.m. (room to be determined). The Halibut Management Committee will meet on Tuesday, October 4, 2016, from 8 a.m. to 12 p.m. (room to be determined). The Enforcement Committee will meet on Tuesday, October 4, 2016, from 1 p.m. to 4 p.m. (room to be determined).

Agenda

Monday, October 3, 2016 Through Tuesday, October 11, 2016

Council Plenary Session: The agenda for the Council's plenary session will include the following issues. The Council may take appropriate action on any of the issues identified.

(1) Executive Director's Report (including ROA, allocation policy directive, legislative update; 40th Anniversary celebration update)

(2) NMFS Management Report

(3) ADF&G Report

(4) U.S. CG Report

(5) U.S. FWS Report

(6) Protected Species Report

(7) BSAI Crab Harvest Specifications for 6 Stocks

(8) Groundfish Harvest Specifications; Stock Structure Report; Chinook Salmon 3-River Index

(9) Electronic Monitoring Integration

(10) 2017 Observer Program Annual Deployment Plan

(11) Observer Lead Level 2

(12) Halibut/Sablefish IFQ Program

(13) Area 4 Halibut IFQ Leasing

(14) BSAI Halibut Abundance-Based PSC

(15) Halibut DMR's Methodology

(16) EFH Descriptions

(17) EFH Non-Fishing Effects

(18) EFH Fishing Effects Methods/Criteria

(19) Staff Tasking

The Advisory Panel will address most of the same agenda issues as the Council except B reports.

The SSC agenda will include the following issues:

(1) BSAI Crab Harvest Specifications for 6 Stocks

(2) Groundfish Harvest Specifications; Stock Structure Report; 3-River Index

(3) Electronic Monitoring Integration

(4) 2017 Observer Program Annual Deployment Plan

(5) BSAI Halibut Abundance-Based PSC

(6) Halibut/Sablefish IFQ Program

(7) Area 4 Halibut IFQ Leasing

(8) Halibut DMR's Methodology

(9) EFH Descriptions

(10) EFH Non-Fishing Effects

(11) EFH Fishing Effects Methods/Criteria

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines. The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: September 6, 2016.
Tracey L. Thompson,
Acting Deputy Director, Office of Sustainable Fisheries, National Marine Fisheries Service.

[FR Doc. 2016-21713 Filed 9-8-16; 8:45 am]

BILLING CODE 3510-22-P